DEPARTMENT OF ENERGY

Federal Energy Regulatory Commission

Combined Notice of Filings #1

Take notice that the Commission received the following electric corporate filings:

Docket Numbers: EC21-56-000.

Applicants: Duke Energy Indiana, LLC, GIC Infra Holdings Pte. Ltd.

Description: Joint Motion for Leave to Answer and Answer to Protest of Duke Energy Indiana, LLC and GIC Infra Holdings Pte. Ltd.

Filed Date: 3/26/21.

Accession Number: 20210326-5177.

Comments Due: 5 p.m. ET 4/23/21.

Docket Numbers: EC21-79-000.

Applicants: Crystal Lake Wind III, LLC, Crystal Lake Wind Energy III, LLC.

Description: Application for Authorization Under Section 203 of the Federal Power Act of Crystal Lake Wind III, LLC, et al.

Filed Date: 4/15/21.

Accession Number: 20210415-5099.

Comments Due: 5 p.m. ET 5/6/21.

Take notice that the Commission received the following electric rate filings:.

Docket Numbers: ER21-255-003.

Applicants: Taylor Creek Solar, LLC.

Description: Compliance filing: Taylor Creek Solar, LLC Compliance Filing to be effective 12/29/2020.

Filed Date: 4/15/21.

Accession Number: 20210415-5250.

Comments Due: 5 p.m. ET 5/6/21.

Docket Numbers: ER21-454-002.

Applicants: Southern California Edison Company.

Description: Tariff Amendment: 2nd Refiling TOT Revisions to Incorporate Letter Agreements to be effective 6/15/2021.

Filed Date: 4/15/21.

Accession Number: 20210415-5125.

Comments Due: 5 p.m. ET 5/6/21.

Docket Numbers: ER21-455-002.

Applicants: Southern California Edison Company.

Description: Tariff Amendment: 2nd Refiling WDAT Revisions to Incorporate Curtailment and Qualifying Facilities to be effective 6/15/2021.

Filed Date: 4/15/21.

Accession Number: 20210415-5160.

Comments Due: 5 p.m. ET 5/6/21.

Docket Numbers: ER21-456-002.

Applicants: Southern California Edison Company.

Description: Tariff Amendment: 2nd Refiling WDAT Revisions to Incorporate Letter Agreements to be effective 6/15/2021.

Filed Date: 4/15/21.

Accession Number: 20210415-5207.

Comments Due: 5 p.m. ET 5/6/21.

Docket Numbers: ER21-1181-001.

Applicants: Southwest Power Pool, Inc.

Description: Tariff Amendment: 3127R3 Montana-Dakota Utilities Co. NITSA NOA to be effective 2/1/2021.

Filed Date: 4/15/21.

Accession Number: 20210415-5097.

Comments Due: 5 p.m. ET 5/6/21.

Docket Numbers: ER21-1209-001.

Applicants: Mid-Atlantic Interstate Transmission, LLC, PJM Interconnection, L.L.C.

Description: Tariff Amendment: MAIT submits amendment to ECSA No. 5921 to be effective 4/27/2021.

Filed Date: 4/15/21.

Accession Number: 20210415-5288.

Comments Due: 5 p.m. ET 5/6/21.

Docket Numbers: ER21-1270-001.

Applicants: Alabama Power Company.

Description: Tariff Amendment: Rabun Gap Enhanced Reliability Upgrade Construction Agreement Errata Filing to be effective 2/23/2021.

Filed Date: 4/15/21.

Accession Number: 20210415-5272.

Comments Due: 5 p.m. ET 5/6/21.

Docket Numbers: ER21-1683-000.

Applicants: PJM Interconnection, L.L.C.

Description: § 205(d) Rate Filing: Original ISA, Service Agreement No. 6011; Queue No. AD1-125 to be effective 3/18/2021.

Filed Date: 4/15/21.

Accession Number: 20210415-5038.

Comments Due: 5 p.m. ET 5/6/21.

Docket Numbers: ER21-1685-000.

Applicants: Tri-State Generation and Transmission Association, Inc.

Description: Compliance filing: Order No. 864 Compliance Filing to be effective 2/25/2020.

Filed Date: 4/15/21.

Accession Number: 20210415-5141.

Comments Due: 5 p.m. ET 5/6/21.

Docket Numbers: ER21-1686-000.

Applicants: Southern California Edison Company.

Description: § 205(d) Rate Filing: Letter Agreement—Sky River, LLC and SCE SA No. 263 to be effective 4/16/2021.

Filed Date: 4/15/21.

Accession Number: 20210415-5171.

Comments Due: 5 p.m. ET 5/6/21.

Docket Numbers: ER21-1687-000.

Applicants: New York Independent System Operator, Inc., Niagara Mohawk Power Corporation.

Description: § 205(d) Rate Filing: Joint TPIA among NYISO, NMPC and LS Power SA No. 2612 CEII to be effective 4/2/2021.

Filed Date: 4/15/21.

Accession Number: 20210415-5188.

Comments Due: 5 p.m. ET 5/6/21.

Docket Numbers: ER21-1688-000.

Applicants: Harmony Florida Solar, LLC.

Description: Compliance filing: Harmony Florida Solar, LLC Compliance Filing to be effective 12/29/2020.

Filed Date: 4/15/21.

Accession Number: 20210415-5235.

Comments Due: 5 p.m. ET 5/6/21.

Docket Numbers: ER21-1689-000.

Applicants: Duke Energy Florida, LLC.

Description: Tariff Cancellation: DEF-FL Solar 10—Termination of E&P Agmt RS 329 to be effective 6/15/2021.

Filed Date: 4/15/21.

Accession Number: 20210415-5263.

Comments Due: 5 p.m. ET 5/6/21.

Docket Numbers: ER21-1690-000.

Applicants: Southwest Power Pool, Inc.

Description: § 205(d) Rate Filing: Tri-State Generation and Transmission Association, Inc. Normalization Filing to be effective 6/15/2021.

Filed Date: 4/15/21.

Accession Number: 20210415-5317.

Comments Due: 5 p.m. ET 5/6/21.

Take notice that the Commission received the following qualifying facility filings:

Docket Numbers: QF21-689-000.

Applicants: Caleco Solar Farm LLC.

Description: Form 556 of Caleco Solar Farm LLC.

Filed Date: 4/14/21.

Accession Number: 20210414-5048.

Comments Due: Non-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2021.
Nathaniel J. Davis, Sr.,
Deputy Secretary.

[FR Doc. 2021-08221 Filed 4-20-21; 8:45 am]

BILLING CODE 6717-01-P